DEPARTMENT OF EDUCATION

[Docket No.: ED-2022-SCC-0015]

Agency Information Collection Activities; Comment Request; National Household Education Survey 2023 (NHES:2023) Full-Scale Data Collection

AGENCY: Institute of Educational Science (IES), Department of Education (ED).

ACTION: Notice.

SUMMARY: In accordance with the Paperwork Reduction Act of 1995, ED is proposing a reinstatement with change of a previously approved information collection.

DATES: Interested persons are invited to submit comments on or before April 15, 2022.

ADDRESSES: To access and review all the documents related to the information collection listed in this notice, please use http://www.regulations.gov by searching the Docket ID number ED-2022-SCC-0015. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the PRA Coordinator of the Strategic Collections and Clearance Governance and Strategy Division, U.S. Department of Education, 400 Maryland Ave. SW, LBJ, Room 6W208B, Washington, DC 20202-8240.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Household Education Survey 2023 (NHES:2023) Full-scale Data Collection.

OMB Control Number: 1850-0768.

Type of Review: A reinstatement with change of a previously approved information collection.

Respondents/Affected Public: Individuals and Households.

Total Estimated Number of Annual Responses: 137,150.

Total Estimated Number of Annual Burden Hours: 18,295.

Abstract: The National Household Education Surveys Program (NHES) collects data directly from households on early childhood care and education, children's readiness for school, parents' perceptions of school safety and discipline, before- and after-school activities of school-age children, participation in adult and career education, parents' involvement in their children's education, school choice, homeschooling, and civic involvement. NHES surveys were conducted approximately every other year from 1991 through 2007 using random digit dial (RDD) sampling and telephone data collection from landline telephones only. Due to declining response rates in all RDD surveys, NCES redesigned NHES to collect data through self-administered mailed questionnaires for the 2012 administration, which included the Early Childhood Program Participation (ECPP), the Parent and Family Involvement in Education-Enrolled (PFI-E), and the Parent and Family Involvement in Education-Homeschooled (PFI-H) topical surveys. NHES:2016 continued the mail-based collection methodology, while also experimenting with the use of web survey collection. NHES:2019 continued the mail-based collection methodology and used the same methodology developed in the NHES:2016 web experiment for the majority of the sampled addresses. In 2019, 57 percent of cases responded by web, 36 by paper, and 7 percent by inbound phone. Also in 2019, PFI surveys for parents of enrolled and homeschooled students were merged into one survey instrument. NHES:2023 will again field the ECPP and the combined PFI survey used in the NHES:2019. NHES:2023 will use the same methodology developed in the NHES:2019 for the majority of sampled addresses, but will incorporate lessons learned from NHES:2019's methodological experiments. Furthermore, given the potential change in the education landscape since COVID-19, particularly for online coursework, NCES plans to conduct a debriefing project with respondents during the NHES:2023 administration. The goal of the study is to gain greater insight about respondents who indicate that their child was enrolled in online courses. The debriefing interviews are designed to understand the true schooling experiences of these children and how well the survey functioned in capturing the context of these children's virtual education experiences. The debriefing interviews will provide information that will assist NCES in understanding the NHES:2023 data on virtual education and in crafting items for future NHES administrations that will more accurately capture the details of virtual education.

Dated: February 9, 2022.
Stephanie Valentine,
PRA Coordinator, Strategic Collections and Clearance, Governance and Strategy Division, Office of Chief Data Officer, Office of Planning, Evaluation and Policy Development.

[FR Doc. 2022-03099 Filed 2-11-22; 8:45 am]

BILLING CODE 4000-01-P